DEPARTMENT OF HEALTH AND HUMAN SERVICES

Administration for Community Living

Solicitation for Nominations To Serve on the Advisory Council To Support Grandparents Raising Grandchildren

AGENCY: Administration for Community Living, HHS.

ACTION: Notice.

SUMMARY: The Principal Deputy Administrator of the Administration for Community Living (ACL) seeks nominations for individuals to serve on the Advisory Council to Support Grandparents Raising Grandchildren.

DATES: Nominations must be submitted electronically by 11:59 p.m., Eastern on April 11, 2022 to be considered for appointment.

Method of Submission: Nominations, including all requested information (see Nomination Process below) and attachments, must be submitted electronically to: SGRG.mail@acl.hhs.gov.

SUPPLEMENTARY INFORMATION: The Advisory Council to Support Grandparents Raising Grandchildren is authorized by the Supporting Grandparents Raising Grandchildren Act (Pub. L. 115-196) of 2018. The Advisory Council identifies, promotes, coordinates, and disseminates to the public information, resources, and the best practices available to help grandparents and other older relatives both meet the needs of the children in their care; and maintain their own physical and mental health and emotional well-being. The Advisory Council is specifically directed to consider the needs of those affected by the opioid crisis, as well as the needs of members of Native American Tribes.

The Administration for Community Living has been delegated the authority to execute the requirements and responsibilities as outlined in the Act.

The Advisory Council is made up of the following (or their designees): The Administrator of the Administration for Community Living (ACL); the Secretary of Education; the Assistant Secretary for Mental Health and Substance Use; the Assistant Secretary for the Administration for Children and Families; and, as appropriate, the heads of other federal departments or agencies with responsibilities related to current issues affecting grandparents or other older relatives raising children.

The Advisory Council also must include at least one grandparent who is raising a grandchild, and an older relative (kinship) caregiver caring for children. Given the Biden administration's commitment to equity and inclusion, ACL anticipates selecting up to ten (10) non-federal members to serve on the Advisory Council who will be reflective of the diversity of grandparents and older relative/kinship caregivers and the professionals working on their behalf, with particular emphasis placed on individuals representing racially and ethnically diverse communities, tribal communities, and those families impacted by the opioid crisis.

Advisory Council Responsibilities: The Advisory Council's efforts will build on the accomplishments of the previous council, whose term expires in August 2022. In this regard, the Advisory Council will support the information gathering for, and preparation of, updates to the initial Report to Congress. The Advisory Council will provide input to update the sections of the National Family Caregiving Strategy pertaining to grandparents and older relative (kinship) caregiver support. The Advisory Council may also be called upon to inform the work of, and collaborate with, the newly established Grandfamilies and Kinship Support Network: A National Technical Assistance Center.

The Advisory Council, or its individual members, may be engaged to author/co-author articles and other materials; engage with print and electronic media; and deliver presentations, workshops, webinars and other forms of educational opportunities designed to highlight the Administration's commitment to supporting kin and grandparent caregivers.

As needed, and where appropriate, this Advisory Council will coordinate its efforts with those of the Family Caregiving Advisory Council. Such coordination might include joint meetings, presentations, and other activities undertaken in fulfillment of the requirements of the RAISE Act.

The Advisory Council will meet virtually (via Zoom or similar platform), up to three times each year, beginning in September/October 2022. Council meetings will generally be held from 12:30 to 4:30 p.m., Eastern Time. All meetings of the Council will be open to the public and recorded for posting on the ACL website. Advisory Council members will be expected to participate in at least one subcommittee, which will meet, as needed, between Advisory Council meetings to develop and review materials and conduct other activities related to the Advisory Council's mission and purpose.

The completion of all described activities is dependent upon the continued availability of federal funding for the purposes of carrying out the legislation.

Nomination Process: Any person or organization may nominate one or more qualified individuals for membership. Current Advisory Council members whose terms are expiring may also submit a nomination for consideration. Nomination packages must include:

(1) A nomination letter not to exceed one (1) page that provides ALL the following information:

a. The reason(s) for nominating the individual;

b. The constituency being represented:

i. A grandparent raising a grandchild; or

ii. An older relative caregiver of children;

iii. A grandparent or older relative caregiver whose family has been impacted by opioid misuse; or

iv. A grandparent or older relative caregiver who is a member of Native American tribe; or

v. Another expert and/or advocate engaged in programs, services, and supports to kinship families and grandfamilies.

c. The nominee's particular, relevant experience and/or professional expertise;

d. Contact information for the nominee (name, title (if applicable), address, phone, and email address); and

e. The nominee's resume (not to exceed two (2) pages) if the nomination is based on their professional capacity or qualifications. A resume is optional otherwise.

Nominees will be selected for appointment based on their demonstrated knowledge, qualifications, and professional or personal experience related to the purpose and scope of the Advisory Council.

(2) Members will be appointed for a period not to exceed three years. Members appointed to fill subsequent vacancies will serve for the remainder of the current term of the Advisory Council.

Dated: March 4, 2022.
Alison Barkoff,
Principal Deputy Administrator, Administration for Community Living.

[FR Doc. 2022-05153 Filed 3-10-22; 8:45 am]

BILLING CODE 4154-01-P